NATIONAL AERONAUTICS AND SPACE ADMINISTRATION

[Notice (08-086)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: November 12, 2008.

FOR FURTHER INFORMATION CONTACT: Robert M. Padilla, Patent Counsel, Ames Research Center, Code 202A-4, Moffett Field, CA 94035-1000; telephone (650) 604-5104; fax (650) 604-2767.

NASA Case No. ARC-16018-1: Versatile Honeycomb Matrix Heat Shield;

NASA Case No. ARC 14950-2: Enhanced Project Management Tool.

Dated: November 4, 2008.
Michael C. Wholley,
General Counsel.

[FR Doc. E8-26823 Filed 11-10-08; 8:45 am]

BILLING CODE 7510-13-P